DEPARTMENT OF HOUSING AND URBAN DEVELOPMENT

[Docket No. FR-4837-D-54]

Delegation of Authority Under Section 42(d)(5)(C) of the Internal Revenue Code

AGENCY: Office of the Secretary, HUD.

ACTION: Notice.

SUMMARY: In this notice, the Secretary delegates to the Assistant Secretary for Policy Development and Research concurrent authority to carry out the duties and responsibilities authorized to the Secretary of HUD by Section 42(d)(5)(C) of the Internal Revenue Code.

DATES: Effective Date: January 1, 2005.

FOR FURTHER INFORMATION CONTACT: Kurt G. Usowski, Associate Deputy Assistant Secretary for Economic Affairs, Office of Policy Development and Research, Room 8204, Department of Housing and Urban Development, 451 Seventh Street, SW., Washington, DC 20410-6000, telephone (202) 708-2770 (this is not a toll-free number), or email Kurt_G._Usowski@hud.gov. Persons with speech or hearing impairments may access this number through TTY by calling the Federal Information Relay Service at 800-877-8339.

SUPPLEMENTARY INFORMATION: Section 42(d)(5)(C) of the Internal Revenue Code of 1986 (26 U.S.C. 42(d)(5)(C)) authorizes the Secretary of HUD to designate qualified census tracts and difficult development areas for the low-income housing tax credit. Section 7(d) of the Department of Housing and Urban Development Act (42 U.S.C. 3535(d)) authorizes the Secretary to delegate this authority, and the Secretary delegates the authority as follows:

Section A. Authority Delegated

The Secretary delegates to the Assistant Secretary for Policy Development and Research, concurrent with the Secretary's authority, the authority to designate qualified census tracts and difficult development areas for the low-income housing tax credit as authorized by Section 42(d)(5)(C) of the Internal Revenue Code of 1986 (26 U.S.C. 42(d)(5)(C)), as well as such other statutory authority, duties, and responsibilities related to the designation of these tracts and areas.

Section B. Redelegation

The authority delegated to the Assistant Secretary for Policy Development and Research in Section A may not be redelegated.

Authority: Section 42(d)(5)(C) of the Internal Revenue Code of 1986 (26 U.S.C. 42(d)(5)(C)), and Section 7(d) of the Department of Housing and Urban Development Act (42 U.S.C. 3535(d)).

Dated: October 25, 2004.
Alphonso Jackson,
Secretary.

[FR Doc. E4-3593 Filed 12-8-04; 8:45 am]

BILLING CODE 4210-27-P